DEPARTMENT OF THE INTERIOR

National Park Service

The Negotiated Rulemaking Advisory Committee for Dog Management at Golden Gate National Recreation Area

ACTION: Notice of meeting.

Notice is hereby given in accordance with the Federal Advisory Committee Act (Pub. L. 92-463, 86 Stat. 770, 5 U.S.C. App 1, section 10), of the first meeting of the Negotiated Rulemaking Advisory Committee for Dog Management at Golden Gate National Recreation Area.

DATES: The Committee will meet on Monday, March 6, 2006. The meeting will begin at 4 p.m. and will be held at Landmark Building A, The Conference Center, Fort Mason, San Francisco.

This, and any subsequent meetings, will be held for the following reason: to work with the National Park Service to assist in potentially developing a special regulation for dogwalking at Golden Gate National Recreation Area.

The proposed agenda for this meeting of the Committee may contain the following items; however, the Committee may modify its agenda during the course of its work. The Committee will provide for a public comment period during the meeting.

1. Welcoming Remarks by National Park Service.

2. Introductions of Committee Members.

3. Overview of Meeting Agenda and Objectives.

4. Discuss and adopt Organizational Protocols (Committee ground rules).

5. Presentation and discussion on applicable laws, regulations, and policies.

6. Presentation and discussion of sideboards and data.

7. Discussion of key issues and possible outcomes.

8. Discussion of potential subcommittees.

9. Discussion of agenda for next meetings and tasks between sessions.

10. Adjourn.

FOR FURTHER INFORMATION CONTACT: Superintendent, Golden Gate National Recreation Area, Fort Mason, Building 201, San Francisco, CA 94123.

SUPPLEMENTARY INFORMATION: The meetings are open to the public. The Committee was established pursuant to the Negotiated Rulemaking Act of 1990 (5 U.S.C. 561-570). The purpose of the Committee is to consider developing a special regulation for dogwalking at Golden Gate National Recreation Area. Interested persons may provide brief oral/written comments to the Committee during the Public Comment period of the meeting or file written comments with the Park Superintendent.

Dated: February 14, 2006.
Bernard C. Fagan,
Deputy Chief, Office of Policy.

[FR Doc. E6-2344 Filed 2-16-06; 8:45 am]

BILLING CODE 4312-FN-P